NATIONAL SCIENCE FOUNDATION

National Science Board

Sunshine Act Meetings; Notice

The National Science Board's ad hoc Committee on Nominations for the NSB Class of 2016-2022, pursuant to NSF regulations (45 CFR part 614), the National Science Foundation Act, as amended (42 U.S.C. 1862n-5), and the Government in the Sunshine Act (5 U.S.C. 552b), hereby gives notice in regard to the scheduling of a meeting for the transaction of National Science Board business, as follows:

DATE AND TIME: Monday, December 7, 2015 at 1:30-2:30 p.m. EST

SUBJECT MATTER: Committee chair's remarks, and discussion of the nomination submissions and preparation of a proposed list of names.

STATUS: Closed.

This meeting will be held by teleconference originating at the National Science Board Office, National Science Foundation, 4201Wilson Blvd., Arlington, VA 22230.

Please refer to the National Science Board Web site (www.nsf.gov/nsb) for information or schedule updates, or contact: Brandon Powell (bjpowell@nsf.gov), National Science Foundation, 4201Wilson Blvd., Arlington, VA 22230.

Kyscha Slater-Williams,
Program Specialist.

[FR Doc. 2015-30335 Filed 11-24-15; 4:15 pm]

BILLING CODE 7555-01-P